NATIONAL SCIENCE FOUNDATION

Request for Public Comment: Interagency Arctic Research Policy Committee Draft Arctic Research Plan

AGENCY: National Science Foundation.

ACTION: Request for public comment.

SUMMARY: The Interagency Arctic Research Policy Committee (IARPC), chaired by the National Science Foundation (NSF), seeks public comment on the draft Arctic Research Plan: 2022-2026, which can be found at https://www.iarpccollaborations.org/draft-plan.html.

DATES: Written comments must be submitted no later than June 4, 2021. Comments sent via the U.S. Postal Service must be postmarked by June 11, 2021.

ADDRESSES: Email comments to IARPCPlan@nsf.gov. Send written submissions to Roberto Delgado, Office of Polar Programs, National Science Foundation, 2415 Eisenhower Avenue, Alexandria, VA 22314. Voicemails can be left by calling (703) 783-1658 or our toll-free number (888) 657-7759. Please limit voicemails to five minutes in length.

Instructions: Comments received electronically, including all attachments, must not exceed a 25-megabyte file size. Attachments to electronic comments will be accepted in Microsoft Word or Excel or Adobe PDF file formats only. IARPC will review and consider all input received and revise the plan as necessary. When the final plan is released, comments and the commenters' names, along with responses, will become part of the public record and be made available on the IARPC Collaborations website. Do not submit confidential business information or otherwise sensitive or protected information. Comments sent by any other method, to any other address or individual, or received after the end of the comment period will not be considered. IARPC acknowledges and is grateful for the time taken to provide comments.

FOR FURTHER INFORMATION CONTACT: Meredith LaValley at plan@iarpccollaborations.org or visit https://www.iarpccollaborations.org/draft-plan.html where information about upcoming public webinars on the Arctic Research Plan 2022-2026 can be found.

SUPPLEMENTARY INFORMATION:

About IARPC

IARPC was established by the Arctic Research Policy act of 1984 (ARPA) to “facilitate cooperation between the Federal Government and State and local governments in Arctic research” and “recommend the undertaking of neglected areas of research” (ARPA Section 104). Now a subcommittee of the National Science and Technology Council (NSTC), IARPC enhances scientific monitoring and research on individual components of the Arctic, as well as how the system operates as a whole, through the coordination of federal agencies and domestic and international collaborators. It consists of representatives from 14 federal agencies, the White House Office of Science and Technology Policy (OSTP), and the Office of Management and Budget (OMB).

About the 2022-2026 Arctic Research Plan

IARPC is required by law to prepare and execute a 5-year Arctic Research Plan, which helps coordinate the overall federal Arctic research effort. To address the interests and needs of all, IARPC works collaboratively with representatives from local communities, Indigenous Peoples, the state of Alaska, the private sector, non-governmental organizations, research institutions, and the academic community.

In September 2019, the IARPC Principals approved the development of the next Arctic Research Plan, covering the period of 2022-2026, with a planned release at the end of 2021. On April 3, 2020, IARPC published a notice in the Federal Register to request public input on the content and organization of the 2022-2026 Plan (86 FR 19031). In September 2020, IARPC convened a workshop to develop the potential priority areas for the 2022-2026 Arctic Research Plan for consideration by the IARPC Principals. The draft plan reflects input received from these processes.

Arctic Research Plans focus on research that will be enhanced through collaboration among federal agencies and collaborators, align with federal agencies missions and with the goals and objectives set out by the U.S. Arctic Research Commission. The Arctic Research Plan 2022-2026 will provide a blueprint for effective federal coordination, thus positioning the U.S. to remain a global leader in Arctic research and stewardship for years to come.

Overview of the Draft Plan

As with the Arctic Research Plan 2017-2021, this new plan adheres to four critical policy drivers in U.S. Arctic research that reflect long-standing U.S. interests in the Arctic and the collective priorities of IARPC federal agencies. Policy drivers include: Well-Being; Stewardship; Security; and Arctic-Global Systems.

There are four priority areas with thematic goals that, (1) represent areas of broad, crosscutting focus that need additional attention or research, (2) support one or more policy drivers, (3) meet the mission and interests of more than one federal agency, (4) and engage multiple existing collaboration teams and non-federal partners. Priority areas and goals include:

1. Community Resilience and Health: Improve community resilience and well-being by strengthening research and tools to increase understanding of interdependent social, natural, and built systems in the Arctic.

2. Arctic Systems Interactions: Enhance our ability to observe, understand, predict, and project the Arctic's dynamic interconnected systems and their linkages to the Earth system as a whole.

3. Sustainable Economies and Livelihoods: Monitor, maintain, and proactively adapt the Arctic's natural, social, and built systems to promote sustainable economies and livelihoods.

4. Risk Management and Hazard Mitigation: Secure and improve quality of life through an understanding of disaster risk exposure, sensitivity to hazard, and adaptive capacity.

In addition to identifying four priority areas, this plan builds upon five foundational activities. These activities are critical to achieving the priority area goals and will remain foundational to Arctic research beyond the five-year duration of this plan. Foundational activities include: Co-Production of Knowledge and Indigenous-Led Research; Data Management; Education; Monitoring, Observing, Modeling, and Prediction; and Technology Application and Innovation.

In contrast to the previous Arctic Research Plans, this plan presents a high-level strategy without explicit direction on implementation. For IARPC to respond more swiftly to emerging or immediate needs while continuing to support U.S. Arctic policy, this plan will be carried out through biennial implementation plans. These implementation plans will identify specific objectives, deliverables, and metrics. Four new priority area collaboration teams will be established to direct and coordinate activities including those of existing collaboration teams, to achieve goals and ensure the coordination of non-federal partners and resources.

Seeking Input

IARPC seeks comment on the draft Arctic Research Plan 2022-2026 to ensure Arctic research interests, needs, and priorities are addressed appropriately. Specifically, comment is sought on priority area goals, justifications, and potential partners; the foundational activities; and the implementation and metrics for measuring success.

Dated: March 4, 2021.
Suzanne H. Plimpton,
Reports Clearance Officer, National Science Foundation.

[FR Doc. 2021-04842 Filed 3-8-21; 8:45 am]

BILLING CODE 7555-01-P